DEPARTMENT OF TRANSPORTATION

Federal Aviation Administration

Notice of Opportunity for Public Comment on Surplus Property Release at Tupelo Regional Airport, Tupelo, Mississippi

AGENCY: Federal Aviation Administration (FAA), DOT.

ACTION: Notice of intent to rule on land release request.

SUMMARY: Under the provisions of Title 49, U.S.C. Section 47153(c), notice is being given that the FAA is considering a request from the Tupelo Airport Authority to waive the requirement that a 1.78-acre parcel of surplus property, located at the Tupelo Regional Airport, be used for aeronautical purposes.

DATES: Comments must be received on or before June 10, 2013.

ADDRESSES: Comments on this notice may be mailed or delivered in triplicate to the FAA at the following address: Jackson Airports District Office, 100 West Cross Street, Suite B, Jackson, MS 39208-2307.

In addition, one copy of any comments submitted to the FAA must be mailed or delivered to Joshua Abramson, Executive Director Tupelo Airport Authority, at the following address: Mr. Joshua Abramson, Executive Director, Tupelo Airport Authority, 2704 W. Jackson Street, Tupelo, MS 38801-0306.

FOR FURTHER INFORMATION CONTACT: David Shumate, Program Manager, Jackson Airports District Office, 100 West Cross Street, Suite B, Jackson, MS 39208-2307, (601)664-9882. The land release request may be reviewed in person at this same location.

SUPPLEMENTARY INFORMATION: The FAA is reviewing a request by Tupelo Airport Authority to release 1.78 acres of surplus property at the Tupelo Regional Airport. The property will be purchased by Rowan Oak Funds, LLC for a commercial retail business. The net proceeds from the sale of this property will be used for Airport Improvement Program eligible development.

Any person may inspect the request in person at the FAA office listed above under FOR FURTHER INFORMATION CONTACT.

In addition, any person may, upon request, inspect the request, notice and other documents germane to the request in person at the Tupelo Regional Airport.

Issued in Jackson, Mississippi, on April 25, 2013.
Rans D. Black,
Manager, Jackson Airports District Office, Southern Region.

[FR Doc. 2013-10509 Filed 5-9-13; 8:45 am]

BILLING CODE 4910-13-P